DEPARTMENT OF HOUSING AND URBAN DEVELOPMENT

[Docket No. FR-5037-N-26]

Notice of Submission of Proposed Information Collection to OMB: Grant Application Program Specific Logic Model

AGENCY: Office of Administration.

ACTION: Notice.

SUMMARY: The proposed information collection requirement described below will be submitted to the Office of Management and Budget (OMB) for review, as required by the Paperwork Reduction Act. The submission is a request for extension of the currently approval information collection. Applicants of HUD Federal Financial Assistance are required to indicate intended results and impacts. Grant recipients report against their baseline performance standards. This process standardizes grants progress reporting requirements and promotes greater emphasis on performance and results in grant programs.

The Department is soliciting public comments on the subject proposal.

DATES: Comments Due Date: July 14, 2006.

ADDRESSES: Interested persons are invited to submit comments regarding this proposal. Comments should refer to the proposal by name and/or OMB approval number (2535-0114) and should be sent to: Lillian L. Deitzer, Reports Management Officer, QDAM, Department of Housing and Urban Development, 451 Seventh Street, Southwest, Washington, DC 20410; telephone (202) 708-2374 (this is not a toll-free number) or e-mail Ms. Deitzer at Lillian_L._Deitzer@HUD.gov for copies of the proposed forms and other available information.

FOR FURTHER INFORMATION CONTACT: Barbara Dorf, Director, Office of Departmental Grants Management and Oversight, Department of Housing and Urban Development, 451 Seventh Street, SW., Washington, DC 20410; e-mail Barbara_Dorf@hud.gov; telephone (202) 708-0667. This is not a toll-free number.

SUPPLEMENTARY INFORMATION: The Department has submitted the proposal for the collection of information, as described below, to OMB for review, as required by the Paperwork Reduction Act (44 U.S.C. Chapter 35). The Notice lists the following information: (1) The title of the information collection proposal; (2) the office of the agency to collect the information; (3) the OMB approval number, if applicable; (4) the description of the need for the information and its proposed use; (5) the agency form number, if applicable; (6) what members of the public will be affected by the proposal; (7) how frequently information submissions will be required; (8) an estimate of the total number of hours needed to prepare the information submission including number of respondents, frequency of response, and hours of response; (9) whether the proposal is new, an extension, reinstatement, or revision of an information collection requirement; and (10) the name and telephone number of an agency official familiar with the proposal and of the OMB Desk Officer for the Department.

This Notice Also Lists the Following Information

Title of Proposal: Grant Application Logic Model.

OMB Approval Number: 2535-0114.

Form Numbers: HUD-96010 ICDBG, HUD-96010 HSIAC, HUD-96010AN/NHIAC, HUD-96010T TCUP, HUD-96010 ROSS Family/Homeownership, HUD-96010 ROSS Elderly Disabled, HUD-96010 ALCP, HUD-96010 Service Coordinators, HUD-96010 SHOP, HUD-96010 RHED, HUD-96010 Lead TS, HUD-96010 Healthy Homes TS,HUD-96010 Lead Hazard, Lead Reduction Demo and LEAP, HUD-96010 LOP, HUD-96010 Healthy Homes Demo, HUD-96010 HOPE VI Main Street, HUD-96010 FHIP, HUD-96010 HBCU, HUD-96010 Section 202, HUD-96010 Section 811, HUD-96010 Youthbuild, HUD-96010 CoC. http://www.hud.gov/.

Description of the Need for the Information and its Proposed Use: Applicants of HUD Federal Financial Assistance are required to indicate intended results and impacts. Grant recipients report against their baseline performance standards. The collection automates response through a drop down table listing. This was done in response to concerns about the difficulty in putting information in the previously approved Logic Model form. The revised collection adds an additional requirement for addressing a series of tailored management questions and a return on investment statement when reporting back to HUD. The return on investment is a new concept for the Logic Model and HUD will issue a separate notice to further address the return on investment concept.

Respondents: Individuals, Not-for-profit institutions, State, Local or Tribal Government, Business or other for-profit.

Frequency of Submission: On occasion.

Reporting Burden: This information collection is estimated to average 5 hours per submission. Of the estimated 11,000 grant applicant/recipients, approximately 6,600 report quarterly and 4,400 report annually. Total annual reporting burden is estimated to be 109,175 hours.

Total Estimated Burden Hours: 109,175.

Status: Extension of a currently approved collection.

Authority: Section 3507 of the Paperwork Reduction Act of 1995, 44 U.S.C. 35, as amended.

Dated: May 9, 2006.
Lillian L. Deitzer,
Departmental Reports Management Officer, Office of the Chief Information Officer.

[FR Doc. E6-7350 Filed 5-12-06; 8:45 am]

BILLING CODE 4210-67-P